FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002238N.

Name: CSI Cargo System Air and Sea Inc.

Address: 150-40 183rd Street, Room 106, Jamaica, NY 11413.

Date Revoked: January 8, 2005.

Reason: Failed to maintain a valid bond.

License Number: 000344F.

Name: Godwin Shipping Company Inc.

Address: 317 St. Joseph Street, Mobile, AL 36603.

Date Revoked: January 15, 2005.

Reason: Failed to maintain a valid bond.

License Number: 017952N.

Name: Uniworld Cargo Shipping Lines, LLC.

Address: 4000 West Side Avenue, North Bergen, NJ 07047.

Date Revoked: January 13, 2005.

Reason: Failed to maintain a valid bond.

License Number: 004393F.

Name: Worldserv Transport Corporation.

Address: 12282 Gamma Street, Garden Grove, CA 92840.

Date Revoked: March 17, 2000.

Reason: Failed to maintain a valid bond.

Sandra L. Kusumoto,
Director, Bureau of Certification and Licensing.

[FR Doc. 05-2148 Filed 2-3-05; 8:45 am]

BILLING CODE 6730-01-P